DEPARTMENT OF THE INTERIOR

Bureau of Land Management

[ES-032-05-1430-FR]

Notice of Realty Action; Recreation and Public Purposes Act Classification for Conveyance; Door County, WI

AGENCY: Bureau of Land Management, Interior.

ACTION: Notice of realty action.

SUMMARY: Public land near the community of Baileys Harbor, in Door County, Wisconsin, has been examined by the Bureau of Land Management (BLM) and found suitable for classification for conveyance to Door County under the provisions of the Recreation and Public Purposes Act of 1926, as amended (R&PP Act). The County proposes to acquire and manage the realty as an historic site.

ADDRESSES: BLM-Eastern States, Milwaukee Field Office, 626 E. Wisconsin Avenue, Suite 200, Milwaukee, Wisconsin 53202.

FOR FURTHER INFORMATION CONTACT: Marcia Sieckman, Realty Specialist, at (414) 297-4402 or the address listed above.

SUPPLEMENTARY INFORMATION: The following described public land, reserved under the jurisdiction of the United States Coast Guard, U.S. Department of Homeland Security, located near Baileys Harbor, Wisconsin, and known as Cana Island Lightstation, is hereby classified as suitable for conveyance under the provisions of the R&PP Act (43 U.S.C. 869 et seq.):

Fourth Principal Meridian

T. 30 N., R. 28 E.,

Section 11, Tract 37

The area described contains 9.06 acres, more or less, in Door County.

Door County has applied for patent to the public land under the R&PP Act. The United States Coast Guard expressly concurs with this disposition of the land. The County proposes to protect and manage the lighthouse, the lighthouse related structures and the surrounding acreage as an historic site open to the public under regulated access. The subject land is identified in the Wisconsin Resource Management Plan Amendment, approved March 2, 2001, as not needed for federal purposes and as having potential for disposal to protect the historic structures and surrounding land. Conveyance of the land for recreational and public purpose use would be in the public interest.

The patent, when issued, will be subject to the following terms, covenants, conditions and reservations:

1. Provisions of the Recreation and Public Purposes Act of 1926, as amended and to all applicable regulations of the Secretary of the Interior.

2. Valid existing rights.

3. All minerals are reserved to the United States, together with the right to prospect for, mine and remove the minerals under applicable laws and regulations established by the Secretary of the Interior.

4. Terms, covenants and conditions identified through the site-specific environmental analysis.

5. Any other rights or reservations that the authorized officer deems appropriate to ensure unimpeded and unobstructed operation of the navigation light beacon, public access and the proper use and management of the realty and any interest therein.

Detailed information concerning the foregoing is available for review at the office of the Bureau of Land Management listed above.

Commencing on April 8, 2005, the above described land will be segregated from all forms of appropriation under the public land laws, except for conveyance under the Recreation and Public Purposes Act and leasing under the mineral leasing laws.

Classification Comments: Interested parties may submit comments involving the suitability of the land for R&PP Act classification, and particularly, whether the land is physically suited for use as an historic site, whether the use will maximize future use or uses of the land, whether the use is consistent with local planning and zoning, and if the use is consistent with state and federal programs.

Application Comments: Interested parties may submit comments regarding the specific use proposed in the application, the development plan, the management plan, whether the BLM followed proper administrative procedures in reaching the decision, or any other factor not directly related to the suitability of the land for management as an historic site.

Interested parties may submit comments regarding the proposed classification or conveyance of the subject land to the Field Manager, at the address listed above, up until May 23, 2005.

Any adverse comments will be evaluated by the BLM State Director who may sustain, vacate, or modify this realty action. In the absence of any adverse comments, the classification will become effective on June 7, 2005.

Michael D. Nedd,
State Director, Eastern States.

[FR Doc. 05-6982 Filed 4-7-05; 8:45 am]

BILLING CODE 4310-AG-P